NUCLEAR REGULATORY COMMISSION

[NRC-2017-0194]

Biweekly Notice; Applications and Amendments to Facility Operating Licenses and Combined Licenses Involving No Significant Hazards Considerations

AGENCY: Nuclear Regulatory Commission.

ACTION: Biweekly notice.

SUMMARY: The U.S. Nuclear Regulatory Commission (NRC) is publishing this regular biweekly notice. The Atomic Energy Act of 1954 (the Act) requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from August 29 to September 11, 2017. The last biweekly notice was published on September 12, 2017.

DATES: Comments must be filed by October 26, 2017. A request for a hearing must be filed by November 27, 2017.

ADDRESSES: You may submit comments by any of the following methods:

• Federal Rulemaking Web site: Go to http://www.regulations.gov and search for Docket ID NRC-2017-0194. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: TWFN-8-D36M, U.S. Nuclear Regulatory Commission, Washington, DC 20555-0001.

For additional direction on obtaining information and submitting comments, see “Obtaining Information and Submitting Comments” in the SUPPLEMENTARY INFORMATION section of this document.

FOR FURTHER INFORMATION CONTACT: Kay Goldstein, Office of Nuclear Reactor Regulation, U.S. Nuclear Regulatory Commission, Washington DC 20555-0001; telephone: 301-415-1506; email: Kay.Goldstein@nrc.gov.

SUPPLEMENTARY INFORMATION:

I. Obtaining Information and Submitting Comments

A. Obtaining Information

Please refer to Docket ID NRC-2017-0194, facility name, unit number(s), plant docket number, application date, and subject when contacting the NRC about the availability of information for this action. You may obtain publicly-available information related to this action by any of the following methods:

• Federal Rulemaking Web site: Go to http://www.regulations.gov and search for Docket ID NRC-2017-0194.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2017-0194, facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, or (2) create the possibility of a new or different kind of accident from any accident previously evaluated, or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final no significant hazards consideration determination, any hearing will take place after issuance. The Commission expects that the need to take this action will occur very infrequently.

A. Opportunity to Request a Hearing and Petition for Leave to Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's Web site at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562, August 3, 2012). The E-Filing process requires participants to submit and serve all adjudicatory documents over the internet, or in some cases to mail copies on electronic storage media. Detailed guidance on making electronic submissions may be found in the Guidance for Electronic Submissions to the NRC and on the NRC Web site at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. Once a participant has obtained a digital ID certificate and a docket has been created, the participant can then submit adjudicatory documents. Submissions must be in Portable Document Format (PDF). Additional guidance on PDF submissions is available on the NRC's public Web site at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public Web site at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland, 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly-available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Arizona Public Service Company, et al., Docket Nos. STN 50-528, STN 50-529, and STN 50-530, Palo Verde Nuclear Generating Station, Units 1, 2, and 3 (PVNGS), Maricopa County, Arizona

Date of amendment request: July 19, 2017. A publicly-available version is in ADAMS under Accession No. ML17200D162.

Description of amendment request: The amendments would modify the licensing basis, by the addition of a license condition, to allow the implementation of the provisions of 10 CFR 50.69, “Risk-informed categorization and treatment of structures, systems, and components [SSCs] for nuclear power reactors,” for PVNGS. The provisions of 10 CFR 50.69 allow adjustment of the scope of equipment subject to special treatment controls (e.g., quality assurance, testing, inspection, condition monitoring, assessment, and evaluation). For equipment determined to be of low safety significance, alternative treatment requirements can be implemented in accordance with this regulation. For equipment determined to be of high safety significance, requirements will not be changed or will be enhanced. This allows improved focus on equipment that has high safety significance resulting in improved plant safety.

Basis for proposed no significant hazards consideration determination: As required by 10 CFR 50.91(a), the licensee has provided its analysis of the issue of no significant hazards consideration, which is presented below:

1. Does the proposed change involve a significant increase in the probability or consequences of an accident previously evaluated?

Response: No.

The proposed change will permit the use of a risk-informed categorization process to modify the scope of SSCs subject to NRC special treatment requirements and to implement alternative treatments per the regulations. The process used to evaluate SSCs for changes to NRC special treatment requirements and the use of alternative requirements ensures the ability of the SSCs to perform their design function(s). The potential change to special treatment requirements does not change the design and operation of the SSCs. As a result, the proposed change does not significantly affect any initiators to accidents previously evaluated or the ability to mitigate any accidents previously evaluated. The consequences of the accidents previously evaluated are not affected because the mitigation functions performed by the SSCs assumed in the safety analysis are not being modified. The SSCs required to safely shut down the reactor and maintain it in a safe shutdown condition following an accident will continue to perform their design functions.

Therefore, the proposed change does not involve a significant increase in the probability or consequences of an accident previously evaluated.

2. Does the proposed change create the possibility of a new or different kind of accident from any accident previously evaluated?

Response: No.

The proposed change will permit the use of a risk-informed categorization process to modify the scope of SSCs subject to NRC special treatment requirements and to implement alternative treatments per the regulations. The proposed change does not change the functional requirements, configuration, or method of operation of any SSC. Under the proposed change, no additional plant equipment will be installed.

Therefore, the proposed change does not create the possibility of a new or different kind of accident from any accident previously evaluated.

3. Does the proposed change involve a significant reduction in a margin of safety?

Response: No.

The proposed change will permit the use of a risk-informed categorization process to modify the scope of SSCs subject to NRC special treatment requirements and to implement alternative treatments per the regulations. The proposed change does not affect any Safety Limits or operating parameters used to establish the safety margin. The safety margins included in the analyses of accidents are not affected by the proposed change. 10 CFR 50.69 requires that there be no significant effect on plant risk due to any change to the special treatment requirements for SSCs and that the SSCs continue to be capable of performing their design basis functions, as well as to perform any beyond design basis functions consistent with the categorization process and results.

Therefore, the proposed change does not involve a significant reduction in a margin of safety.

The NRC staff has reviewed the licensee's analysis and, based on that review, it appears that the three standards of 10 CFR 50.92(c) are satisfied. Therefore, the NRC staff proposes to determine that the request for amendments involves no significant hazards consideration.

Attorney for licensee: Michael G. Green, Senior Regulatory Counsel, Pinnacle West Capital Corporation, P.O. Box 52034, Mail Station 8695, Phoenix, Arizona 85072-2034.

NRC Branch Chief: Robert J. Pascarelli.

DTE Electric Company, Docket No. 50-341, Fermi 2, Monroe County, Michigan

Date of amendment request: July 17, 2017. A publicly-available version is in ADAMS under Accession No. ML17198C829.

Description of amendment request: The amendment would revise the Technical Specification (TS) 3.7.2 Conditions and Surveillance Requirements to reflect a proposed change to the design of the two redundant cross-tie lines that are part of the ultimate heat sink.

Basis for proposed no significant hazards consideration determination: As required by 10 CFR 50.91(a), the licensee has provided its analysis of the issue of no significant hazards consideration, which is presented below:

1. Does the proposed amendment involve a significant increase in the probability or consequences of an accident previously evaluated?

Response: No.

Operability of the Fermi 2 UHS [ultimate heat sink] requires that the two reservoirs either be cross-tied or capable of being cross-tied. Fermi 2 proposes a change to the design of the reservoirs to remove the cross-tie valves. With the four cross-tie valves removed, the reservoirs are permanently cross-tied and there is no credible failure mode to cause the reservoirs to not be cross-tied during an event. A structural crack in one reservoir would result in both reservoirs being affected when they are permanently cross-connected. However, the consequences are bounded by the UFSAR [updated final safety analysis report] which already includes allowance for a structural crack in both reservoirs.

Therefore, the proposed change does not involve a significant increase in the probability or consequences of an accident previously evaluated.

2. Does the proposed amendment create the possibility of a new or different kind of accident from any accident previously evaluated?

Response: No.

Operability of the Fermi 2 UHS requires that the two reservoirs either be cross-tied or capable of being cross-tied. As these valves are currently maintained normally open and deenergized, the safety limits and safety analysis assumptions associated with the design and operation of the plant will not change. Structural cracks affecting both reservoirs have already been considered as described above. Accordingly, the change to remove the cross-tie valves does not introduce any new accident initiators, nor does it reduce or adversely affect the capabilities of any plant structure, system, or component to perform their safety function.

Therefore, the proposed change does not create the possibility of a new or different kind of accident from any previously evaluated.

3. Does the proposed amendment involve a significant reduction in a margin of safety?

Response: No.

The proposed changes have no adverse effect on plant operation. The plant response to the design basis accidents does not change, with the exception that actions to cross-connect the reservoirs are no longer necessary. The proposed changes do not adversely affect existing plant safety margins or the reliability of the equipment assumed to operate in the safety analyses. There is no change being made to safety analysis assumptions, safety limits or limiting safety system settings that would adversely affect plant safety as a result of the proposed changes.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jon P. Christinidis, DTE Energy, Expert Attorney—Regulatory, 688 WCB, One Energy Plaza, Detroit, MI 48226-1279.

NRC Branch Chief: David J. Wrona.

DTE Electric Company, Docket No. 50-341, Fermi 2, Monroe County, Michigan

Date of amendment request: August 14, 2017. A publicly-available version is in ADAMS under Accession No. ML17226A277.

Description of amendment request: The proposed amendment would revise the Fermi 2 Technical Specification 5.5.7, “Ventilation Filter Testing Program (VFTP)” by adopting the formatting and language of the Standard Technical Specifications (STS) 5.5.8.

Basis for proposed no significant hazards consideration determination: As required by 10 CFR 50.91(a), the licensee has provided its analysis of the issue of no significant hazards consideration, which is presented below:

1. Does the proposed amendment involve a significant increase in the probability or consequences of an accident previously evaluated?

Response: No.

The proposed change aligns the introductory paragraph and testing requirements of Specification 5.5.7, “Ventilation Filter Testing Program (VFTP),” to be consistent with the STS. The Fermi 2 VFTP will implement the required testing of ESF [Emergency Safety Features] filter ventilation systems at the frequencies specified in Regulatory Guide 1.52, Revision 2, and in accordance with Regulatory Guide 1.52, Revision 2 and ASME [American Society of Mechanical Engineers] N510-1980.

Specific frequency requirements to perform testing are retained either as a reference to Regulatory Guide requirements and general requirements in Surveillance Requirement (SR) 3.0.1 or in the licensee-controlled VFTP. Implementation of these requirements will be in the licensee-controlled VFTP. The VFTP will be maintained in accordance with 10 CFR 50.59.

Since SGT [Standby Gas Treatment] and CREF [Control Room Emergency Filtration] are ESF systems and not accident initiators, the probability of an accident evaluated in the UFSAR [updated final safety analysis report] will not be increased. As such, the probability of occurrence for a previously analyzed accident is not significantly increased.

The consequences of a previously analyzed event are dependent on the initial conditions assumed for the analysis and the availability and successful functioning of the equipment assumed to operate in response to the analyzed event. The proposed change does not affect the performance of any credited equipment, and the details of testing do not alter the assumptions made in the safety analysis. As such, the consequences of an accident previously evaluated are not significantly increased.

2. Does the proposed amendment create the possibility of a new or different kind of accident from any accident previously evaluated?

Response: No.

The proposed change does not involve a physical alteration to the plant (i.e., no new or different type of equipment will be installed) or a change to the methods governing normal plant operation. The changes do not alter the assumptions made in the safety analysis. Therefore, the proposed change does not create the possibility of a new or different kind of accident from any accident previously evaluated.

3. Does the proposed amendment involve a significant reduction in a margin of safety?

Response: No.

The proposed change revises TS 5.5.7, “Ventilation Filter Testing Program (VFTP),” to be consistent with the STS. The proposed change will not reduce a margin of safety because it has no effect on any safety analysis assumption. In addition, no regulatory requirements are being removed, but are either being replaced with references to be performed as described in Regulatory Guide 1.52, Revision 2, and the requirements of SR 3.0.1 or are being held in the licensee-controlled VFTP. Therefore, this proposed change does not involve a significant reduction in a margin of safety.

Based on the above, DTE concludes that the proposed amendment does not involve a significant hazards consideration under the standards set forth in 10 CFR 50.92(c), and, accordingly, a finding of “no significant hazards consideration” is justified.

The NRC staff has reviewed the licensee's analysis and, based on this review, it appears that the three standards of 10 CFR 50.92(c) are satisfied. Therefore, the NRC staff proposes to determine that the amendment request involves no significant hazards consideration.

Attorney for licensee: Jon P. Christinidis, DTE Energy, Expert Attorney—Regulatory, 688 WCB, One Energy Plaza, Detroit, MI 48226-1279.

NRC Branch Chief: David J. Wrona.

Duke Energy Progress, LLC, Docket No. 50-400, Shearon Harris Nuclear Power Plant, Unit 1, Wake and Chatham Counties, North Carolina

Date of amendment request: June 5, 2017. A publicly-available version is in ADAMS under Accession No. ML17156A216.

Description of amendment request: The amendment would revise the Shearon Harris Nuclear Power Plant (HNP), Unit 1, Technical Specification (TS) Surveillance Requirements (SRs) established for the Emergency Diesel Generators (EDGs). The proposed changes will restrict the steady-state voltage and frequency limits for EDG operation to ensure that accident mitigation equipment can perform as designed. The proposed changes would also increase the voltage limit for the EDG full load rejection test.

Basis for proposed no significant hazards consideration determination: As required by 10 CFR 50.91(a), the licensee has provided its analysis of the issue of no significant hazards consideration, which is presented below:

1. Does the proposed amendment involve a significant increase in the probability or consequences of an accident previously evaluated?

The LAR [license amendment request] proposes to provide voltage and frequency limits that are more restrictive for the steady-state operation of the EDGs than the current TS limits and proposes a change in the voltage limit following a load rejection. The current steady-state voltage limit is plus or minus 10% of the nominal EDG voltage (6900 ± 690 volts) and the current steady-state frequency limit is plus or minus 2% of the nominal frequency (60 ± 1.2 hertz). The proposed voltage limit is plus or minus 4% of the nominal EDG voltage (6900 ± 276 volts) and the proposed frequency limit is plus or minus 0.8% of the nominal frequency (60 ± 0.48 hertz). The voltage limit following a load rejection is being changed from 110% of the EDG voltage at the start of the test to 8,280 volts at any time during the test, which is 120% of the EDG nominal voltage rating.

More restrictive voltage and frequency limits for the output of the EDG restores design margin and provides assurance that the equipment supplied by the EDG will operate correctly and within the assumed timeframe to perform their mitigating functions. Testing results have been reviewed to verify that the proposed voltage and frequency limits are reasonable for the performance characteristics of the EDGs.

The technical analysis performed to support the change in the voltage limit following a load rejection has demonstrated that the EDGs can withstand voltages at the new proposed maximum voltage limit without a loss of protection. The proposed higher limit will continue to provide assurance that the EDGs are protected, and the safety function of the EDGs will be unaffected by the proposed change.

The EDGs are safety-related components that function to mitigate the impact of an accident with a concurrent loss of offsite power. A loss of offsite power is typically a significant contributor to postulated plant risk and, as such, onsite alternating current (AC) EDGs have to be maintained available and reliable in the event of a loss of offsite power event. The EDGs are not initiators for any analyzed accident; therefore, the probability for an accident that was previously evaluated is not increased by the proposed changes. The proposed voltage and frequency limits will ensure the EDGs will remain capable of performing their design function.

Therefore, the proposed changes do not involve a significant increase in the probability or consequences of an accident previously evaluated.

2. Does the proposed amendment create the possibility of a new or different kind of accident from any accident previously evaluated?

The LAR proposes to provide voltage and frequency limits that are more restrictive for the steady-state operation of the EDGs than the current TS limits and proposes a change in the voltage limit following a load rejection.

The voltage and frequency limits were established for the steady-state operation voltage and frequency limits, using verified design calculations and the guidance of NRC Administrative Letter 98-10 (Nuclear Document System (NUDOCS) [ADAMS Legacy Library] Accession Number 9812280273). These limits will ensure the EDGs will perform as designed. No new configuration is established by this change.

The proposed higher limit for the EDG voltage limit following a load rejection will continue to provide assurance that the EDGs are protected, and the safety function of the EDGs will be unaffected by the proposed change. The proposed increase in the TS SR limit does not affect the interaction of the EDGs with any system whose failure or malfunction can initiate an accident.

The change does not involve a physical modification of the plant. There are no alterations to the parameters within which the plant is normally operated. No changes are being proposed to the procedures relied upon to mitigate a design basis event. The change does not have a detrimental impact on the manner in which plant equipment operates or responds to an actuation signal.

Therefore, no new or different kind of accident from any previously evaluated can be created.

3. Does the proposed amendment involve a significant reduction in a margin of safety?

The LAR proposes to provide voltage and frequency limits that are more restrictive for the steady-state operation of the EDGs than the current TS limits and proposes a change in the voltage limit following a load rejection. The proposed TS limits on voltage and frequency will ensure that the EDG will be able to perform all design functions assumed in the accident analyses. The change in the acceptance criteria for specific surveillance testing provides assurance that the EDGs will be capable of performing their design function. Previous test history has shown that the proposed limits are well within the capability of the EDGs.

There will be no effect on those plant systems necessary to assure the accomplishment of protection functions associated with reactor operation or the reactor coolant system. There will be no impact on safety limits and the associated margin of safety.

The proposed changes do not eliminate any surveillance or alter the frequency of surveillance required by HNP TS. The more restrictive EDG voltage and frequency limits for steady-state operation and the increase in the TS SR voltage limit for the EDGs following a load rejection will not affect the ability of the EDGs to perform their safety function.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Kathryn B. Nolan, Deputy General Counsel, Duke Energy Corporation, 550 South Tryon St., M/C DEC45A, Charlotte, NC 28202.

NRC Branch Chief: Undine Shoop.

Entergy Nuclear Operations, Inc., Docket No. 50-271, Vermont Yankee Nuclear Power Station, Vernon, Vermont

Date of amendment request: July 13, 2017. A publicly-available version is in ADAMS under Accession No. ML17198A020.

Description of amendment request: The proposed amendment would delete the cyber security plan license condition for the Vermont Yankee Nuclear Power Station (VY).

Basis for proposed no significant hazards consideration determination: As required by 10 CFR 50.91(a), the licensee has provided its analysis of the issue of no significant hazards consideration, which is presented below:

1. Does the proposed change involve a significant increase in the probability or consequences of an accident previously evaluated?

Response: No.

Spent fuel at VY is stored in the spent fuel pool (SFP) and in the independent spent fuel storage installation (ISFSI). In this configuration, the spectrum of possible accidents transients and accidents is significantly reduced compared to an operating nuclear power reactor. The design basis accident evaluated in Section 6 of the VY Defueled Safety Analysis Report (DSAR) is the fuel handling accident (FHA), which is predicated on spent fuel being stored in the SFP. Due to fuel decay since permanent cessation of reactor operations, the risk of an offsite radiological release is also significantly lower.

This proposed change does not alter the FHA analysis assumptions, introduce or alter any initiators, or affect the function of facility structures, systems, and components (SSCs) relied upon to prevent or mitigate any previously evaluated accident or the manner in which these SSCs are operated, maintained, modified, tested, or inspected. The proposed change does not involve any facility modifications which affect the performance capability of any SSCs relied upon to prevent or mitigate the consequences of any previously evaluated accidents.

Therefore, the proposed change does not involve a significant increase in the probability or consequences of an accident previously evaluated.

2. Does the proposed change create the possibility of a new or different kind of accident from any accident previously evaluated?

Response: No.

This proposed change does not alter accident analysis assumptions, introduce or alter any initiators, or affect the function of facility SSCs relied upon to prevent or mitigate any previously evaluated accident, or the manner in which these SSCs are operated, maintained, modified, tested, or inspected. The proposed change does not involve any facility modifications which affect the performance capability of any SSCs relied upon to mitigate the consequences of previously evaluated accidents and does not create the possibility of a new or different kind of accident from any accident previously evaluated.

Therefore, the proposed change does not create the possibility of a new or different kind of accident from any accident previously evaluated.

3. Does the proposed change involve a significant reduction in a margin of safety?

Response: No.

Plant safety margins are established through limiting conditions for operation, limiting safety system settings, and safety limits specified In the Technical Specifications, and as described in the Defueled Safety Analysis Report (DSAR). The proposed change does not involve any changes to the initial conditions that establish safety margins, and does not involve modifications to any SSCs which are relied upon to provide a margin of safety. Because there is no change to established safety margins as a result of this proposed change, no significant reduction in a margin of safety is involved.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Susan Raimo, Senior Counsel, Entergy Services, Inc., 101 Constitution Ave. NW., Suite 200 East, Washington, DC 20001.

NRC Branch Chief: Bruce Watson.

Entergy Nuclear Operations, Inc., Docket No. 50-271, Vermont Yankee Nuclear Power Station, Vernon, Vermont

Date of amendment request: July 20, 2017. A publicly-available version is in ADAMS under Accession No. ML17206A200.

Description of amendment request: The proposed amendment would revise the Operating License and the Permanently Defueled Technical Specifications (PDTS) to reflect removal of all spent nuclear fuel from the spent fuel pool (SFP) and its transfer to dry cask storage within an Independent Spent Fuel Storage Installation (ISFSI).

Basis for proposed no significant hazards consideration determination: As required by 10 CFR 50.91(a), the licensee has provided its analysis of the issue of no significant hazards consideration, which is presented below:

1. Does the proposed change involve a significant increase in the probability or consequences of an accident previously evaluated?

Response: No.

The proposed amendment would modify the VY Renewed Facility Operating License (Operating License) and Permanently Defueled Technical Specifications (PDTS), or Technical Specifications (TS), by deleting the portions of the Operating License and PDTS that are no longer applicable to a facility with no spent nuclear fuel stored in the SFP, while modifying the remaining portions to correspond to all nuclear fuel stored within an ISFSI. This amendment will be implemented within 60 days following ENO's notification to the NRC that all spent fuel assemblies have been transferred out of the SFP and placed in dry storage within the ISFSI.

The definition of safety-related structures, systems, and components (SSCs) in 10 CFR 50.2 states that safety-related SSCs are those relied on to remain functional during and following design basis events to assure:

(1) The integrity of the reactor coolant boundary;

(2) The capability to shutdown the reactor and maintain it in a safe shutdown condition; or

(3) The capability to prevent or mitigate the consequences of accidents which could result in potential offsite exposures comparable to the applicable guideline exposures set forth in 10 CFR 50.34(a)(1) or 100.11.

The first two criteria (integrity of the reactor coolant pressure boundary and safe shutdown of the reactor) are not applicable to a plant in a permanently defueled condition. The third criterion is related to preventing or mitigating the consequences of accidents that could result in potential offsite exposures exceeding limits. However, after all nuclear spent fuel assemblies have been transferred to dry cask storage within an ISFSI, none of the SSCs at VY are required to be relied on for accident mitigation. Therefore, none of the SSCs at VY meet the definition of a safety-related SSC stated in 10 CFR 50.2. The proposed deletion of requirements in the PDTS does not affect systems credited in any accident analysis at VY.

Section 6 of the VY Defueled Safety Analysis Report (DSAR) described the design basis accidents (DBAs) related to the SFP. These postulated accidents are predicated on spent fuel being stored in the SFP. With the removal of the spent fuel from the SFP, there are no remaining spent fuel assemblies to be monitored and there are no credible accidents that require the actions of a Certified Fuel Handler, Shift Manager, or a Non-certified Operator to prevent occurrence or mitigate the consequences of an accident.

The proposed changes do not have an adverse impact on the remaining decommissioning activities or any of their postulated consequences. The proposed changes related to the relocation of certain administrative requirements do not affect operating procedures or administrative controls that have the function of preventing or mitigating any accidents applicable to the safe management of irradiated fuel or decommissioning of the facility.

Therefore, the proposed amendment does not involve a significant increase in the probability or consequences of an accident previously evaluated.

2. Does the proposed change create the possibility of a new or different kind of accident from any accident previously evaluated?

Response: No.

The proposed changes eliminate the operational requirements and certain design requirements associated with the storage of the spent fuel in the SFP, and relocate certain administrative controls to the Quality Assurance Program Manual or other licensee-controlled process.

After the removal of the spent fuel from the SFP and transfer to the ISFSI, there are no spent fuel assemblies that remain in the SFP. Coupled with a prohibition against storage of fuel in the SFP, the potential for fuel related accidents is removed. The proposed changes do not introduce any new failure modes.

Therefore, the proposed amendment does not create the possibility of a new or different kind of accident from any previously evaluated.

3. Does the proposed change involve a significant reduction in a margin of safety?

Response: No.

The removal of all spent nuclear fuel from the SFP into storage in casks within an ISFSI, coupled with a prohibition against future storage of fuel within the SFP, removes the potential for fuel related accidents.

The design basis and accident assumptions within the VY DSAR and the PDTS relating to safe management and safety of spent fuel in the SFP are no longer applicable. The proposed changes do not affect remaining plant operations, systems, or components supporting decommissioning activities.

The requirements for systems, structures, and components (SSCs) that have been removed from the VY PDTS are not credited in the existing accident analysis for any applicable postulated accident; and as such, do not contribute to the margin of safety associated with the accident analysis.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Susan Raimo, Senior Counsel, Entergy Services, Inc., 101 Constitution Avenue NW., Suite 200 East, Washington, DC 20001.

NRC Branch Chief: Bruce Watson.

Exelon Generation Company, LLC, Docket No. 50-333, James A. FitzPatrick Nuclear Power Plant, Oswego County, New York

Date of amendment request: July 31, 2017. A publicly-available version is in ADAMS under Accession No. ML17213A049.

Description of amendment request: The amendment would revise the description for the Emergency Response Organization (ERO) requalification training frequency in the Emergency Plan from annually to “once per calendar year not to exceed 18 months between training sessions.”

Basis for proposed no significant hazards consideration determination: As required by 10 CFR 50.91(a), the licensee has provided its analysis of the issue of no significant hazards consideration, which is presented below:

1. Does the proposed amendment involve a significant increase in the probability or consequences of an accident previously evaluated?

Response: No.

The proposed change only affects the administrative aspects of the annual ERO requalification training frequency requirements and not the content of the training. The proposed change does not involve the modification of any plant equipment or affect plan operation. The proposed change will have no impact on any safety-related Structures, Systems, or Components (SSC).

The proposed change would revise the ERO requalification frequency from an annual basis to once per calendar year not to exceed 18 months between training sessions as defined in the FitzPatrick Emergency Plan. The proposed change will support aligning the FitzPatrick training with the rest of the Exelon fleet under one standard regarding the annual requalification training frequency of personnel assigned Exelon ERO positions.

Therefore, the proposed change to the Emergency Plan requalification training frequency for the affected site does not involve a significant increase in the probability or consequences of an accident previously evaluated.

2. Does the proposed amendment create the possibility of a new or different kind of accident from any accident previously evaluated?

Response: No.

The proposed change has no impact on the design, function, or operation of any plant SSC. The proposed change does not affect plant equipment or accident analyses. The proposed change only affects the administrative aspects related to the annual ERO requalification training frequency requirements. There are no changes in the content of the training being proposed under this submittal. The proposed change will support aligning the FitzPatrick training with the rest of the Exelon fleet under one standard regarding the annual requalification training frequency of personnel assigned Exelon ERO positions.

Therefore, the proposed change to the Emergency Plan requalification training frequency for the affected site does not create the possibility of a new or different kind of accident from any accident previously evaluated.

3. Does the proposed amendment involve a significant reduction in a margin of safety?

Response: No.

The proposed change only affects the administrative aspects of the annual ERO requalification training frequency requirements and does not change the training content. The proposed change does not adversely affect existing plant safety margins or the reliability of the equipment assumed to operate in the safety analyses. There is no change being made to safety analysis assumptions, safety limits, or limiting safety system settings that would adversely affect plant safety as a result of the proposed change. Margins of safety are unaffected by the proposed change to the frequency in the ERO requalification training requirements.

Therefore, the proposed change to the Emergency Plan requalification training frequency for the affected site does not involve a significant reduction in a margin of safety.

The NRC staff has reviewed the licensee's analysis and, based on this review, it appears that the three standards of 10 CFR 50.92(c) are satisfied. Therefore, the NRC staff proposes to determine that the amendment request involves no significant hazards consideration.

Attorney for licensee: Donald P. Ferraro, Assistant General Counsel, Exelon Generation Company, LLC, 200 Exelon Way, Suite 305, Kennett Square, PA 19348.

NRC Branch Chief: James G. Danna.

Exelon Generation Company, LLC, Docket Nos. 50-352 and 50-353, Limerick Generating Station, Units 1 and 2, Montgomery County, Pennsylvania

Date of amendment request: June 28, 2017. A publicly-available version is in ADAMS under Accession No. ML17179A161.

Description of amendment request: The amendments would revise the licensing basis by adding a license condition to allow for the implementation of the provisions of 10 CFR 50.69.

Basis for proposed no significant hazards consideration determination: As required by 10 CFR 50.91(a), the licensee has provided its analysis of the issue of no significant hazards consideration, which is presented below:

1. Does the proposed change involve a significant increase in the probability or consequences of an accident previously evaluated?

Response: No.

The proposed change will permit the use of a risk-informed categorization process to modify the scope of SSCs [structures, systems, and components] subject to NRC special treatment requirements and to implement alternative treatments per the regulations. The process used to evaluate SSCs for changes to NRC special treatment requirements and the use of alternative requirements ensures the ability of the SSCs to perform their design function. The potential change to special treatment requirements does not change the design and operation of the SSCs. As a result, the proposed change does not significantly affect any initiators to accidents previously evaluated or the ability to mitigate any accidents previously evaluated. The consequences of the accidents previously evaluated are not affected because the mitigation functions performed by the SSCs assumed in the safety analysis are not being modified. The SSCs required to safely shut down the reactor and maintain it in a safe shutdown condition following an accident will continue to perform their design functions.

Therefore, the proposed change does not involve a significant increase in the probability or consequences of an accident previously evaluated.

2. Does the proposed change create the possibility of a new or different kind of accident from any accident previously evaluated?

Response: No.

The proposed change will permit the use of a risk-informed categorization process to modify the scope of SSCs subject to NRC special treatment requirements and to implement alternative treatments per the regulations. The proposed change does not change the functional requirements, configuration, or method of operation of any SSC. Under the proposed change, no additional plant equipment will be installed.

Therefore, the proposed change does not create the possibility of a new or different kind of accident from any accident previously evaluated.

3. Does the proposed change involve a significant reduction in a margin of safety?

Response: No.

The proposed change will permit the use of a risk-informed categorization process to modify the scope of SSCs subject to NRC special treatment requirements and to implement alternative treatments per the regulations. The proposed change does not affect any Safety Limits or operating parameters used to establish the safety margin. The safety margins included in analyses of accidents are not affected by the proposed change. The regulation requires that there be no significant effect on plant risk due to any change to the special treatment requirements for SSCs and that the SSCs continue to be capable of performing their design basis functions, as well as to perform any beyond design basis functions consistent with the categorization process and results.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

Northern States Power Company—Minnesota, Docket Nos. 50-282 and 50-306, Prairie Island Nuclear Generating Plant, Units 1 and 2, Goodhue County, Minnesota

Date of amendment request: August 4, 2017. A publicly-available version is in ADAMS under Accession No. ML17216A236.

Brief description of amendment request: The proposed amendments would modify the non-destructive examination (NDE) inspection interval for Special Lifting Devices from annually or prior to each use, typically at each refueling outage, to a 10-year interval.

Basis for proposed no significant hazards consideration determination: As required by 10 CFR 50.91(a), the licensee has provided its analysis of the issue of no significant hazards consideration, which is presented below:

1. Does the proposed amendment involve a significant increase in the probability or consequences of an accident previously evaluated?

Response: No.

The proposed change does not impact the consequences of an accident previously evaluated as it only modifies an already existing NDE inspection interval and does not change the manner in which heavy loads are handled using these devices.

The proposed change also does not significantly increase the probability of a previously evaluated accident as significant structural margins and high strength materials were used in excess of those specified in ANSI [American National Standards Institute] N14.6-1978. Additionally, the use of each device is infrequent and concerns of degradation due to fatigue are negligible, especially when compared to what is possible for the type of devices for which ANSI N14.6-1978 and its corresponding NDE inspection interval were originally intended. Continued visual inspections and dimensional testing consistent with ANSI N14.6-1978 on a periodicity of annually or prior to each use, typically at each outage, will continue to provide a high degree of probability that any flaws will be detected and addressed.

Therefore, the proposed change does not involve a significant increase in the probability or consequences of an accident previously evaluated.

2. Does the proposed amendment create the possibility of a new or different kind of accident from any previously evaluated?

Response: No.

The proposed change impacts the frequency of NDE inspections on the Special Lifting Devices. The proposed change, by its nature, does not alter the manner in which the devices are used and does not involve a physical change to the devices. It also does not change the manner in which heavy loads are handled using these devices.

Therefore, the proposed change does not create the possibility of a new or different kind of accident from any previously evaluated.

3. Does the proposed amendment involve a significant reduction in a margin of safety?

Response: No.

The proposed change does not impact the designs or usage of the devices in any manner and, therefore, has no impact on the margins of safety for those designs. It modifies the frequency at which NDE inspections on major load carrying welds and other critical members are performed. However, given the evaluation of available past NDE inspection results, use of sufficient design margins and high strength materials, infrequent use and continued visual inspection and dimensional testing consistent with ANSI N14.6-1978, the proposed change will not result in any appreciable reduction in the reliability of the Special Lifting Devices load handling capabilities when contrasted with the frequency stipulated by ANSI N14.6-1978.

Therefore, the proposed change does not involve a significant reduction in a margin of safety.

The NRC staff has reviewed the licensee's analysis and, based on this review, it appears that the three standards of 10 CFR 50.92(c) are satisfied. Therefore, the NRC staff proposes to determine that the amendment requests involve no significant hazards consideration.

Attorney for licensee: Peter M. Glass, Assistant General Counsel, Xcel Energy Services, Inc., 414 Nicollet Mall, Minneapolis, MN 55401.

NRC Branch Chief: David J. Wrona.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Progress, LLC, Docket Nos. 50-325 and 50-324, Brunswick Steam Electric Plant, Units 1 and 2, Brunswick County, North Carolina

Date of amendment request: September 28, 2016, as supplemented by letters dated March 25, 2017, and May 24, 2017.

Brief description of amendments: The amendments modified the Technical Specification-required action end states consistent with the NRC-approved Technical Specifications Task Force (TSTF) Traveler TSTF-423-A, Revision 1, “Technical Specifications End States, NEDC 32988-A,” dated December 22, 2009 (ADAMS Accession No. ML093570241), as described in the Notice of Availability published in the Federal Register on February 18, 2011 (76 FR 9614). Changes to the Brunswick Steam Electric Plant, Units 1 and 2, Technical Specifications for selected required action end states allow entry into hot shutdown rather than cold shutdown to repair equipment if risk is assessed and managed consistent with the program in place for complying with the requirements of 10 CFR 50.65(a)(4).

Date of issuance: August 29, 2017.

Effective date: As of date of issuance and shall be implemented within 120 days of issuance.

Amendment Nos.: 280 (Unit 1) and 308 (Unit 2). A publicly-available version is in ADAMS under Accession No. ML17180A596; documents related to these amendments are listed in the Safety Evaluation enclosed with the amendments.

Facility Operating License Nos. DPR-71 and DPR-62: Amendments revised the Facility Operating Licenses and Technical Specifications.

Date of initial notice in Federal Register: December 6, 2016 (81 FR 87968). The supplemental letters dated March 25 and May 24, 2017, provided additional information that clarified the application, did not expand the scope of the application as originally noticed, and did not change the staff's original proposed no significant hazards consideration determination as published in the Federal Register.

The Commission's related evaluation of the amendments is contained in a Safety Evaluation dated August 29, 2017.

No significant hazards consideration comments received: No.

Duke Energy Progress, LLC, Docket Nos. 50-325 and 50-324, Brunswick Steam Electric Plant, Units 1 and 2, Brunswick County, North Carolina

Date of amendment request: October 27, 2016.

Brief description of amendments: The amendments revised the technical specifications (TSs) Sections 1.3, “Completion Times,” and 3.0, “Limiting Condition for Operation (LCO) Applicability” and “Surveillance Requirement (SR) Applicability.” The changes clarify and expand the use and application of the plant's TS usage rules. The changes are consistent with the NRC-approved Technical Specifications Task Force (TSTF) Traveler TSTF-529, Revision 4, “Clarify Use and Application Rules” dated February 29, 2016.

Date of issuance: September 6, 2017.

Effective date: As of date of issuance and shall be implemented within 90 days of issuance.

Amendment Nos.: 281 (Unit 1) and 309 (Unit 2). A publicly-available version is in ADAMS under Accession No. ML17186A219; documents related to these amendments are listed in the Safety Evaluation enclosed with the amendments.

Renewed Facility Operating License Nos. DPR-71 and DPR-62: Amendments revised the Renewed Facility Operating Licenses and TSs.

Date of initial notice in Federal Register: March 14, 2017 (82 FR 13665).

The Commission's related evaluation of the amendments is contained in a Safety Evaluation dated September 6, 2017.

No significant hazards consideration comments received: No.

Exelon Generation Company, LLC, Docket Nos. 50-317 and 50-318, Calvert Cliffs Nuclear Power Plant, Units 1 and 2, Calvert County, Maryland

Date of amendment request: September 22, 2016, as supplemented by letters dated November 10, 2016, and March 22, 2017. Publicly-available versions are in ADAMS under Accession Nos. ML16266A086, ML16315A112, and ML17081A303, respectively.

Brief description of amendments: The amendments revised the Calvert Cliffs Nuclear Power Plant, Units 1 and 2, Technical Specification (TS) 3.3.8, “Control Room Recirculation Signal (CRRS),” and TS 3.7.8, “Control Room Emergency Ventilation System (CREVS),” to remove certain CREVS components and their associated testing, which no longer serve the purpose of establishing and isolating the control room boundary.

Date of issuance: August 30, 2017.

Effective date: As of the date of issuance and shall be implemented within 60 days of issuance.

Amendment Nos.: 321 (Unit 1) and 299 (Unit 2). A publicly-available version is in ADAMS under Accession No. ML17209A620; documents related to these amendments are listed in the Safety Evaluation enclosed with the amendments.

Renewed Facility Operating License Nos. DPR-53 and DPR-69: Amendments revised the Renewed Facility Operating Licenses and TSs.

Date of initial notice in Federal Register: January 31, 2017 (82 FR 8870). The supplemental letter dated March 22, 2017, provided additional information that clarified the application, did not expand the scope of the application as originally noticed, and did not change the staff's original proposed no significant hazards consideration determination as published in the Federal Register.

The Commission's related evaluation of the amendments is contained in a Safety Evaluation dated August 30, 2017.

No significant hazards consideration comments received: No.

Exelon Generation Company, LLC, Docket Nos. 50-254 and 50-265, Quad Cities Nuclear Power Station, Units 1 and 2, Rock Island County, Illinois

Date of amendment request: September 12, 2016, as supplemented by letters dated November 21, 2016, and April 24, 2017.

Brief description of amendments: The amendments revised the allowable value for detecting a loss of voltage on the 4160 volt essential service system buses.

Date of issuance: September 11, 2017.

Effective date: As of the date of issuance and shall be implemented prior to entering Mode 4 following the spring 2018 refueling outage for Unit 2, and prior to entering Mode 4 following the spring 2019 refueling outage for Unit 1.

Amendment Nos.: 268 (Unit 1) and 263 (Unit 2). A publicly-available version is in ADAMS under Accession No. ML17208A297; documents related to these amendments are listed in the Safety Evaluation enclosed with the amendments.

Renewed Facility Operating License Nos. DPR-29 and DPR-30: Amendments revised the Technical Specifications and Licenses.

Date of initial notice in Federal Register: December 20, 2016 (81 FR 92867). The supplemental letters dated November 21, 2016, and April 24, 2017, provided additional information that clarified the application, did not expand the scope of the application as originally noticed, and did not change the staff's original proposed no significant hazards consideration determination as published in the Federal Register.

The Commission's related evaluation of the amendments is contained in a Safety Evaluation dated September 11, 2017.

No significant hazards consideration comments received: No.

Exelon Generation Company, LLC, Docket Nos. STN 50-456 and STN 50-457, Braidwood Station, Units 1 and 2, Will County, Illinois

Exelon Generation Company, LLC, Docket Nos. STN 50-454 and STN 50-455, Byron Station, Unit Nos. 1 and 2, Ogle County, Illinois

Exelon Generation Company, LLC, Docket Nos. 50-317 and 50-318, Calvert Cliffs Nuclear Power Plant, Unit Nos. 1 and 2, Calvert County, Maryland

Exelon Generation Company, LLC, Docket No. 50-461, Clinton Power Station, Unit No. 1, DeWitt County, Illinois

Exelon Generation Company, LLC, Docket Nos. 50-237 and 50-249, Dresden Nuclear Power Station, Units 2 and 3, Grundy County, Illinois

Exelon Generation Company, LLC, Docket Nos. 50-373 and 50-374, LaSalle County Station, Units 1 and 2, LaSalle County, Illinois

Exelon Generation Company, LLC, Docket Nos. 50-352 and No. 50-353, Limerick Generating Station, Units 1 and 2, Montgomery County, Pennsylvania

Exelon Generation Company, LLC, Docket Nos. 50-220 and 50-410, Nine Mile Point Nuclear Station, Units 1 and 2, Oswego County, New York

Exelon Generation Company, LLC, and PSEG Nuclear LLC, Docket Nos. 50-277 and 50-278, Peach Bottom Atomic Power Station, Units 2 and 3, York and Lancaster Counties, Pennsylvania

Exelon Generation Company, LLC, Docket Nos. 50-254 and 50-265, Quad Cities Nuclear Power Station, Units 1 and 2, Rock Island County, Illinois

Exelon Generation Company, LLC, Docket No. 50-244, R.E. Ginna Nuclear Power Plant, Wayne County, New York

Exelon Generation Company, LLC, Docket No. 50-289, Three Mile Island Nuclear Station, Unit 1, Dauphin County, Pennsylvania

Date of amendment request: March 28, 2017.

Brief description of amendments: The amendments revise and clarify the technical specification usage rules for completion times, limiting conditions for operation, and surveillance requirements.

Date of issuance: August 31, 2017.

Effective date: As of the date of issuance and shall be implemented within 60 days from the date of issuance.

Amendment Nos.: 194/194; 200/200; 322/300; 213; 255/248; 224/210; 226/189; 229/163; 314/318; 267/262; 126; and 292. A publicly-available version is in ADAMS under Accession No. ML17163A355. Documents related to these amendments are listed in the Safety Evaluation enclosed with the amendments.

Facility Operating License Nos. NPF-72, NPF-77, NPF-37, NPF-66, DPR-53, DPR-69, NPF-62, DPR-19, DPR-25, NPF-11, NPF-18, NPF-39, NPF-85, DPR-63, NPF-69, DPR-44, DPR-56, DPR-29, DPR-30, DPR-18, and DPR-50: Amendments revised the Facility Operating Licenses and Technical Specifications.

Date of initial notice in Federal Register: May 9, 2017 (82 FR 21558).

The Commission's related evaluation of the amendments is contained in a safety evaluation dated August 31, 2017.

No significant hazards consideration comments received: No.

Southern Nuclear Operating Company, Inc., Georgia Power Company, Oglethorpe Power Corporation, Municipal Electric Authority of Georgia, City of Dalton, Georgia, Docket Nos. 50-321 and 50-366, Edwin I. Hatch Nuclear Plant, Unit Nos. 1 and 2, Appling County, Georgia

Date of amendment request: August 11, 2015, as supplemented by letters dated October 27, 2015; March 16, April 4, June 17, August 12, September 20, and November 16, 2016; and February 6, April 4, and May 11, 2017.

Brief description of amendments: The amendments revised the Technical Specification (TS) requirements related to direct current (DC) electrical systems in TS Limiting Condition for Operation (LCO) 3.8.4, “DC Sources—Operating,” LCO 3.8.5, “DC Sources—Shutdown,” and LCO 3.8.6, “Battery Cell Parameters.” The amendments also added a new requirement, TS 5.5.15, “Battery Monitoring and Maintenance Program,” to TS 5.5, “Administrative Controls—Programs and Manuals.”

Date of issuance: August 29, 2017.

Effective date: As of the date of issuance and shall be implemented within 120 days of issuance.

Amendment Nos.: 287 (Unit 1) and 232 (Unit 2). A publicly-available version is in ADAMS under Accession No. ML17208A231; documents related to these amendments are listed in the Safety Evaluation enclosed with the amendments.

Renewed Facility Operating License Nos. DPR-57 and NPF-5: Amendments revised the Renewed Facility Operating Licenses and Technical Specifications.

Date of initial notice in Federal Register: June 7, 2016 (81 FR 36623). The supplemental letters dated June 17, August 12, September 20, and November 16, 2016; and February 6, April 4, and May 11, 2017, provided additional information that clarified the application, did not expand the scope of the application as originally noticed, and did not change the staff's original proposed no significant hazards consideration determination as published in the Federal Register.

The Commission's related evaluation of the amendments is contained in a Safety Evaluation dated August 29, 2017.

No significant hazards consideration comments received: No.

Southern Nuclear Operating Company, Inc., Docket Nos. 50-424 and 50-425, Vogtle Electric Generating Plant, Units 1 and 2, Burke County, Georgia

Date of amendment request: November 15, 2016, as supplemented by letter dated January 13, 2017.

Brief description of amendments: The amendments revised the TS requirements to operate ventilation systems with charcoal filters from 10 hours to 15 minutes each month in accordance with TSTF-522, Revision 0, “Revise Ventilation System Surveillance Requirements to Operate for 10 hours per Month.”

Date of issuance: August 31, 2017.

Effective date: As of the date of issuance and shall be implemented within 90 days of issuance.

Amendment Nos.: 189 and 172. A publicly-available version is in ADAMS under Accession No. ML17186A276; documents related to these amendments are listed in the Safety Evaluation enclosed with the amendments.

Facility Operating License No. NPF-68 and NPF-81: Amendments revised the Facility Operating Licenses and Technical Specifications.

Date of initial notice in Federal Register: February 28, 2017 (82 FR 12135).

The Commission's related evaluation of the amendment is contained in a Safety Evaluation dated August 31, 2017.

No significant hazards consideration comments received: No.

Southern Nuclear Operating Company, Inc., Docket Nos. 50-424 and 50-425, Vogtle Electric Generating Plant, Units 1 and 2, Burke County, Georgia

Date of amendment request: November 15, 2016.

Brief description of amendments: The amendments revised the technical specifications by relocating references to specific American Society for Testing and Materials standards for fuel oil testing to licensee-controlled documents and adding alternate criteria to the “clear and bright” acceptance test for new fuel oil. The change is in accordance with Technical Specification Task Force Traveler 374, Revision 0, “Revision to TS 5.5.13 and Associated TS Bases for Diesel Fuel Oil.”

Date of issuance: August 31, 2017.

Effective date: As of the date of issuance and shall be implemented within [licensee requested number] days of issuance.

Amendment Nos.: 190 and 173. A publicly-available version is in ADAMS under Accession No. ML17208B018; documents related to these amendments are listed in the Safety Evaluation enclosed with the amendments.

Facility Operating License No. NPF-68 and NPF-81: Amendments revised the Facility Operating Licenses and Technical Specifications.

Date of initial notice in Federal Register: February 28, 2017 (82 FR 12136).

The Commission's related evaluation of the amendment is contained in a Safety Evaluation dated August 31, 2017.

No significant hazards consideration comments received: No.

Southern Nuclear Operating Company, Inc., Docket Nos. 50-424 and 50-425, Vogtle Electric Generating Plant, Units 1 and 2, Burke County, Georgia

Date of amendment request: November 15, 2016.

Brief description of amendments: The amendments add technical specifications requirements for unavailable barriers by adding Limiting Condition for Operation (LCO) 3.0.10 as described as LCO 3.0.9 in TSTF-427, Revision 2, “Allowance for Non Technical Specification Barrier Degradation on Supported System OPERABILITY.”

Date of issuance: September 5, 2017.

Effective date: As of the date of issuance and shall be implemented within 90 days of issuance.

Amendment Nos.: 191 and 174. A publicly-available version is in ADAMS under Accession No. ML17198B633; documents related to these amendments are listed in the Safety Evaluation enclosed with the amendments.

Facility Operating License No. NPF-68 and NPF-81: Amendments revised the Facility Operating Licenses and Technical Specifications.

Date of initial notice in Federal Register: February 28, 2017 (82 FR 12137).

The Commission's related evaluation of the amendment is contained in a Safety Evaluation dated September 5, 2017.

No significant hazards consideration comments received: No.

Dated at Rockville, Maryland, this 15th day of September 2017.
For the Nuclear Regulatory Commission.
Kathryn Brock,
Deputy Director, Division of Operating Reactor Licensing, Office of Nuclear Reactor Regulation.

[FR Doc. 2017-20475 Filed 9-25-17; 8:45 am]

BILLING CODE 7590-01-P